DEPARTMENT OF COMMERCE

National Oceanic and Atmospheric Administration

[I.D. 011806J]

Endangered and Threatened Species; Take of Anadromous Fish

AGENCY: National Marine Fisheries Service (NMFS), National Oceanic and Atmospheric Administration (NOAA), Commerce.

ACTION: Receipt of application for research permit 1558; request for comment.

SUMMARY: Notice is hereby given that NMFS has received an application for a permit for scientific research from William Mitchell, as principal investigator for Jones and Stokes, in Sacramento, CA. The permit would affect federally threatened Central Valley spring-run Chinook salmon and threatened Central Valley steelhead. This document serves to notify the public of the availability of the permit application for review and comment.

DATES: Written comments on the permit application must be received at the appropriate address or fax number (see ADDRESSES) no later than 5 p.m. Pacific standard time on March 1, 2006.

ADDRESSES: Written comments on the permit application should be sent to the appropriate office as indicated below. Comments may also be sent via fax to the number indicated for the request. Comments will not be accepted if submitted via e-mail or the Internet. The permit application and related documents for permit 1558 are available for review by appointment at: Protected Resources Division, NMFS, 650 Capitol Mall, Suite 8-300, Sacramento, CA 95814 (ph: 916-930-3604, fax: 916-930-3629). Documents may also be reviewed by appointment in the Office of Protected Resources, F/PR3, NMFS, 1315 East-West Highway, Silver Spring, MD 20910 3226 (301-713-1401).

FOR FURTHER INFORMATION CONTACT: Michael Tucker at phone number 916-930-3604, or e-mail: FRNpermit.sac@noaa.gov

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally threatened Central Valley spring-run Chinook salmon (Oncorhynchus tshawytscha), and threatened Central Valley steelhead (O. mykiss).

Applications Received

William Mitchell of Jones and Stokes requests a 4 year-permit (1558) for take of juvenile Central Valley spring-run Chinook salmon and Central Valley steelhead in the Yuba River, California. The purpose of this study is to evaluate the effectiveness of specific flow reduction and fluctuation criteria that have been established for the lower Yuba River, by examining the levels of juvenile stranding and isolation, and redd dewatering that may occur as a result of flow fluctuations allowable under these new criteria. Take is expected to occur as a result of deliberate flow reductions that will be implemented for the specific purpose of studying the impacts of these reductions on juvenile salmonids. No field evaluations of redd dewatering are proposed. Instead, the potential for redd dewatering will be evaluated using a habitat modeling approach.

Quantitative estimates of total take are not possible given the size of the area to be affected (the entire lower Yuba River from Englebright Dam to the mouth), substantial annual variability in fish distribution and abundance, and unpredictable impacts to listed salmonids associated with the proposed flow reductions (the purpose of the study). Instead, annual take estimates are expressed in terms of the total area of river where stranding and other forms of take may occur during each phase of the study. Based on preliminary estimates, a maximum of 20 acres of off channel habitat and 151 acres of low gradient (<2 percent slope) bar habitat could be isolated or exposed during the maximum range of flow reductions that would be implemented as part of the study.

Dated: January 24, 2006.
Angela Somma,
Chief, Endangered Species Division, Office of Protected Resources, National Marine Fisheries Service.

[FR Doc. E6-1112 Filed 1-27-06; 8:45 am]

BILLING CODE 3510-22-S